CONSUMER PRODUCT SAFETY COMMISSION

16 CFR Part 1120

[CPSC Docket No. CPSC-2021-0038]

Substantial Product Hazard List: Window Covering Cords

AGENCY: Consumer Product Safety Commission.

ACTION: Notice of proposed rulemaking.

SUMMARY: To address the risk of strangulation to young children associated with certain window covering cords, the Consumer Product Safety Commission (CPSC) is proposing a rule to deem that one or more of the following readily observable characteristics of window coverings present a substantial product hazard (SPH) under the Consumer Product Safety Act (CPSA): The presence of hazardous operating cords on stock window coverings, the presence of hazardous inner cords on stock and custom window coverings, or the absence of a manufacturer label on stock and custom window coverings. The proposed rule would amend the Substantial Product Hazard List, which lists products that the Commission has determined present an SPH if the products have or lack specified characteristics that are readily observable, the hazards have been addressed by a voluntary standard, the voluntary standard has been effective in reducing the risk of injury associated with the product, and the products substantially comply with the voluntary standard.

DATES: Written comments must be received by March 23, 2022.

ADDRESSES: You may submit comments, identified by Docket No. CPSC-2021-0038, by any of the following methods:

Electronic Submissions: Submit electronic comments to the Federal eRulemaking Portal at: https://www.regulations.gov. Follow the instructions for submitting comments. CPSC typically does not accept comments submitted by electronic mail (email), except through https://www.regulations.gov. CPSC encourages you to submit electronic comments by using the Federal eRulemaking Portal, as described above.

Mail/Hand Delivery/Courier Written Submissions: Submit comments by mail/hand delivery/courier to: Division of the Secretariat, Consumer Product Safety Commission, 4330 East-West Highway, Bethesda, MD 20814; telephone: (301) 504-7479. Alternatively, as a temporary option during the COVID-19 pandemic, you can email such submissions to: cpsc-os@cpsc.gov.

Instructions: All submissions must include the agency name and docket number for this notice. CPSC may post all comments without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, and insert the docket number, CPSC-2021-0038, into the “Search” box, and follow the prompts.

FOR FURTHER INFORMATION CONTACT: Rana Balci-Sinha, Director, Division of Human Factors, Directorate for Engineering Sciences, Office of Hazard Identification and Reduction, Consumer Product Safety Commission, National Product Testing and Evaluation Center, 5 Research Place, Rockville, MD 20850; telephone: 301-987-2584; rbalcisinha@cpsc.gov.

SUPPLEMENTARY INFORMATION:

I. Introduction

A. Overview of the Proposed Rule

The purpose of the proposed rule is to address the risk of strangulation to children 8 years old and younger associated with hazardous cords on window coverings.¹ The Commission issues this notice of proposed rulemaking (NPR) under section 15(j) of the CPSA, 15 U.S.C. 2064(j), to amend the substantial product hazard list in 16 CFR part 1120 (part 1120). The NPR proposes to deem the presence of hazardous window covering cords on stock and custom window coverings, which have been adequately addressed by the voluntary standard for window coverings, ANSI/WCMA A100.1-2018, American National Standard for Safety of Corded Window Covering Products (ANSI/WCMA-2018), as an SPH, as defined in section 15(a)(2) of the CPSA. This NPR is based on information and analysis contained in CPSC staff's September 29, 2021, Staff Briefing Package: Notice of Proposed Rulemaking for Corded Window Coverings (Staff's NPR Briefing Package), available at: https://www.cpsc.gov/s3fs-public/NPRs-Add-Window-Covering-Cords-to-Substantial-Product-Hazard-List-Establish-Safety-Standard-for-Operating-Cords-on-Custom-Window-Coverings-updated-10-29-2021.pdf?VersionId=HIM05bK3WDLRZrlNGogQLknhFvhtx3PD.

¹ On December 14, 2021, the Commission voted 4-0 to issue this notice of proposed rulemaking. Commissioner Feldman issued a statement in connection with his vote.

The NPR proposes to deem three readily observable characteristics of stock window coverings an SPH:

(1) Presence of hazardous operating cords;

(2) presence of hazardous inner cords; and

(3) absence of a required manufacturer label.

Additionally, the NPR would deem two readily observable characteristics of custom window coverings an SPH:

(1) Presence of hazardous inner cords; and

(2) absence of a required manufacturer label.

The Commission is addressing the presence of hazardous operating cords on custom window coverings under a separate, concurrent rulemaking pursuant to sections 7 and 9 of the CPSA, because the ANSI/WCMA-2018 standard does not adequately address this hazard. See CPSC Docket No. CPSC-2013-0028.

As detailed in this notice, the Commission determines preliminarily that:

• The following are readily observable characteristics of window coverings: (a) The presence of hazardous operating cords on stock window coverings (accessible operating cords longer than 8 inches in any use position); (b) the presence of hazardous inner cords on stock and custom window coverings (accessible inner cords that create a loop large enough to insert a child's head); and (c) the absence of a required manufacturer label on stock and custom window coverings;

• the identified readily observable characteristics are adequately addressed by a voluntary standard, sections 4.3.1, 4.5, 5.3, 6.3, 6.7, and Appendices C and D of ANSI/WCMA-2018;

• window coverings that conform to sections 4.3.1, 4.5, 5.3, 6.3, 6.7, and Appendices C and D of ANSI/WCMA-2018 regarding the identified characteristics have been effective in reducing the risk of injury from strangulation associated with operating cords on stock window coverings, and inner cords on stock and custom window coverings. Additionally, the required manufacturer label effectively distinguishes between stock and custom window coverings, and expedites timely and effective recalls, by requiring identification of the manufacturer name and manufacture date on the product; and

• stock and custom window coverings manufactured or imported for sale in the United States substantially comply with the specified characteristics in sections 4.3.1, 4.5, 5.3, 6.3, 6.7, and Appendices C and D of ANSI/WCMA-2018.

B. Background and Statutory Authority

Section 223 of the Consumer Product Safety Improvement Act of 2008 (CPSIA) amended section 15 of the CPSA, 15 U.S.C. 2064, to add a new subsection (j). Section 15(j) of the CPSA authorizes the Commission to specify, by rule, for any consumer product or class of consumer products, characteristics whose existence or absence are deemed a substantial product hazard under section 15(a)(2) of the CPSA. 15 U.S.C. 2064(j). Section 15(a)(2) of the CPSA defines a “substantial product hazard,” in relevant part, as a product defect which (because of the pattern of defect, the number of defective products distributed in commerce, the severity of the risk, or otherwise) creates a substantial risk of injury to the public. For the Commission to issue a rule under section 15(j) of the CPSA, the characteristics involved must be “readily observable” and have been addressed by a voluntary standard. Moreover, the voluntary standard must be effective in reducing the risk of injury associated with the consumer products; and products subject to the voluntary standard must substantially comply with the voluntary standard. Id.

The Commission has issued four previous final rules under section 15(j) of the CPSA, codified in 16 CFR part 1120, involving: (a) Drawstrings on children's upper outerwear (76 FR 42502, July 19, 2011) (drawstring rule), (b) integral immersion protection on handheld hair dryers (76 FR 37636, June 28, 2011) (hair dryer rule), (c) minimum wire size, sufficient strain relief, and overcurrent protection on seasonal and decorative lighting products (holiday lights rule) (80 FR 25216, May 4, 2015); and (d) minimum wire size, sufficient strain relief, proper polarity, proper continuity, outlet covers (on 2-wire indoor cords), and jacketed cords (on outdoor cords) (extension cord rule) (80 FR 44262, July 27, 2015).

In each of the four previous rules issued under section 15(j) of the CPSA, the Commission determined the relevant “readily observable” characteristics by considering each of the products on a case-by-case basis. For example, in the proposed drawstring rule (75 FR 27497, 27499, May 17, 2010), the Commission found that the requirements detailed in the relevant voluntary standard could be evaluated with “simple manipulations of the garment, simple measurements of portions of the garments, and unimpeded visual observation.” The Commission stated: “more complicated or difficult actions to determine the presence or absence of defined product characteristics also may be consistent with `readily observable.' ” The Commission stated its intent to evaluate “readily observable” characteristics on a case-by-case basis. 75 FR at 27499.

As explained in more detail in section II.A of this preamble, the “readily observable” characteristics of window covering cords are consistent with the types of observation and measurement found to be “readily observable” in the Commission's prior rules under section 15(j). The “readily observable” characteristics of window coverings include visual observation for the presence of operating and inner cords, and a manufacturer label; and when cords are present, simple manipulations and observation of the window covering to assess cord accessibility by children, and to measure the length of accessible cords to determine whether they present a strangulation hazard.

C. Product Description

Window coverings comprise a wide range of products, including shades, blinds, curtains, and draperies. Generally, the industry considers blinds as “hard” window coverings, composed of slats or vanes, and considers shades as “soft” window coverings, composed of a continuous roll of material. Both blinds and shades may have inner cords that distribute forces to cause a motion, such as raising, lowering, or rotating the window covering to achieve a consumer's desired level of light control. Manufacturers use inner cords on window coverings to open and close blinds and shades, using a variety of mechanisms, including traditional operating cords, motors, or direct-lift of the bottom rail of the product, to manipulate inner cords. Curtains and draperies do not contain inner cords, but consumers can operate curtains and drapes using a continuous loop operating cord or a wand.

A cord or loop used by consumers to manipulate a window covering is called an “operating cord” and may be in the form of a single cord, multiple cords, or continuous loops. “Cordless” window coverings are products designed to function without an operating cord, but they may contain inner cords. Figures 1 through 6 explain window covering terminology and show examples of different types of window coverings.

BILLING CODE 6355-01-P

Figure 1 shows a horizontal blind containing inner cords, operating cords, and tilt cords. Figure 2 shows a roll-up shade containing lifting loops and operating cords. Figure 3 shows a cellular shade with inner cords between two layers of fabric and operating cords. Figure 4 shows a vertical blind with a looped operating cord to traverse the blind and a looped bead chain to tilt the vanes. Figure 5 shows a Roman shade with inner cords that run on the back side of the shade and operating cords. Figure 6 is a horizontal blind that is marketed as “cordless” because it has no operating cords, but it still contains inner cords.

This NPR relies on the definitions of window coverings and their features as set forth in the ANSI/WCMA-2018 standard, which requires “stock” and “custom” window coverings to meet different sets of requirements. For the NPR, the definition of a “stock window covering” relies on the definition of “Stock Blinds, Shades, and Shadings” in section 3, definition 5.02 of ANSI/WCMA-2018, describing them as completely or substantially fabricated product prior to being distributed in commerce and as a specific stock-keeping unit (SKU). Even when the seller, manufacturer, or distributor modifies a pre-assembled product, by adjusting to size, attaching the top rail or bottom rail, or tying cords to secure the bottom rail, the product is still considered “stock” as defined in the voluntary standard. Moreover, under the voluntary standard, online sales of a window covering, or the size of the order, such as multifamily housing orders, do not make the product a non-stock product. ANSI/WCMA-2018 provides these examples to clarify that, as long as the product is “substantially fabricated,” subsequent changes to the product do not change its categorization from “stock” to “custom.” The NPR defines a “custom window covering” the same as the definition of “Custom Blinds, Shades, and Shadings” in section 3, definition 5.01 of the ANSI/WCMA-2018 standard, which is any window covering that is not classified as a stock window covering.

D. Hazards Associated With Window Covering Cords

Window coverings, depending on the type of accessible cords, including operating cords (meaning pull cords and continuous loop cords), inner cords, and lifting loops, can pose strangulation hazards to children when they are accessible and long enough to wrap around a child's neck. Figures 7, 8, and 9, below, depict the strangulation hazard for different window covering cord types.

BILLING CODE 6355-01-C

Children can strangle from mechanical compression of the neck when they place a window covering cord around their neck. Strangulation due to mechanical compression of the neck is a complex process resulting from multiple mechanisms and pathways that involve both obstruction of the airway passage and occlusion of blood vessels in the neck. Strangulation can lead to serious injuries with permanent debilitating outcomes or death. If sustained lateral pressure occurs at a level resulting in vascular occlusion, strangulation can occur when a child's head or neck becomes entangled in any position, even in situations where the body is fully or partially supported.

Strangulation is a form of asphyxia that can be partial (hypoxia), when there is an inadequate oxygen supply to the lungs, or total, when there is complete impairment of oxygen transport to tissues. A reduction in the delivery of oxygen to tissues can result in permanent, irreversible damage. Experimental studies show that only 2 kg (4.4 lbs.) of pressure on the neck may occlude the jugular vein (Brouardel, 1897); and 3-5 kg (7-11 lbs.) may occlude the common carotid arteries (Brouardel, 1897 and Polson, 1973). Minimal compression of any of these vessels can lead to unconsciousness within 15 seconds and death in 2 to 3 minutes, (Digeronimo and Mayes, 1994; Hoff, 1978; lserson, 1984; Polson, 1973).

The vagus nerve is also located in the neck near the jugular vein and carotid artery. The vagus nerve is responsible for maintaining a constant heart rate. Compression of the vagus nerve can result in cardiac arrest due to mechanical stimulation of the carotid sinus-vagal reflex. In addition, the functioning of the carotid sinuses may be affected by compression of the blood vessels. Stimulation of the sinuses can result in a decrease in heart rate, myocardial contractility, cardiac output, and systemic arterial pressure in the absence of airway blockage.

Strangulation proceeding along one or more of these pathways can progress rapidly to anoxia, associated cardiac arrest, and death. As seen in the CPSC data (Wanna-Nakamura, 2014), and in the published literature, neurological damage may range from amnesia to a long-term vegetative state. Continued deterioration of the nervous system can lead to death (Howell and Gully, 1996; Medalia et al., 1991).

Based on the CPSC staff's review of the incidents in section I.E of this preamble and Tab A of Staff's NPR Briefing Package, 16 of the 194 victims required hospitalization, and six survived a hypoxic-ischemic episode, or were pulseless and in full cardiac arrest when found, suffered severe neurological sequalae, ranging from loss of memory to a long-term or permanent vegetative state requiring tracheotomy and gastrointestinal tube feeding. One victim who remained hospitalized for 72 days was released from the hospital with 75 percent permanent brain damage and is now confined to a bed.

Because a preexisting loop acts as a noose when a child's neck is inserted, and death can occur within minutes of a child losing footing, CPSC staff concluded that head insertion into a preexisting loop poses a higher risk of injury than when a cord is wrapped around a child's neck; although both scenarios have been demonstrated to be hazardous and have led to fatal outcomes, according to CPSC data.

CPSC staff further advises that reliance on parental supervision and warning labels are inadequate to address the risk of injury associated with window covering cords. A user research study found that caregivers lacked awareness regarding the potential for window covering cord entanglement, lacked awareness of the speed and mechanism of the strangulation injury; stated difficulty using and installing safety devices for window coverings, among the primary reasons for not using them; and caregivers were unable to recognize the purpose of the safety devices provided with window coverings (Levi et al., 2016).² According to Godfrey et al. (1983), consumers are less likely to look for and read safety information about the products that they frequently use and are familiar with. Consumers are very likely to have high familiarity with window coverings because they almost certainly have window coverings in their homes and probably use them daily. Therefore, even well-designed warning labels will have limited effectiveness in communicating the hazard on this type of product.

² https://cpsc.gov/s3fs-public/Window%20Coverings%20Safety%20Devices%20Contractor%20Reports.pdf.

Based on the foregoing, the Commission states that warning labels, alone, are unlikely to effectively reduce the strangulation risk from hazardous cords on window coverings, because consumers are not likely to read and follow warning labels on window covering products, and strangulation deaths among children occur quickly and silently, such that parental supervision is insufficient to address the incidents. Indeed, staff observed that most of the incident window covering units had the permanent warning label required by the ANSI/WCMA standard, applicable at the time of manufacture, affixed to the product. Even well-designed warning labels will have limited effectiveness in communicating the hazard on this type of product, because consumers are less likely to heed warnings for familiar products that they commonly interact with without incident.

In contrast, stock window covering requirements in the ANSI/WCMA standard adequately address the strangulation hazard, by not allowing hazardous cords on the product, by design, and do not rely on consumer action to address the risk. Accordingly, the risk of injury associated with window coverings must be addressed through performance requirements for window covering cords.

As discussed in section II of this preamble, ANSI/WCMA-2018 contains performance requirements which, when products conform, adequately and effectively address the risk of strangulation associated with operating cords on stock products, and inner cords on both stock and custom products.

E. Risk of Injury

The Commission's 2015 advance notice of proposed rulemaking (ANPR) on Window Coverings presented incident data covering the period from 1996 through 2012. 80 FR 2327, 2332 (Jan. 16, 2015). Since then, WCMA published the revised voluntary standard for window coverings, ANSI/WCMA-2018. For products that comply, the standard has removed hazardous operating/pull cords and inner cords for stock window coverings, and removed hazardous inner cords for custom window coverings.

To study the effectiveness and any lack of compliance with the voluntary standard associated with window covering cords, CPSC staff reviewed the data related to these products from 2009 through 2020.³ Some of the data sources relied upon in this analysis do not yet have data for 2020 available; for those sources, staff included data for the latest available year, 2019. The following analysis distinguishes between stock and custom window coverings, whenever feasible. National estimates of deaths and injuries involving window covering strangulations among children under 5 years of age are associated with all types of window coverings, because the available information does not allow CPSC staff to distinguish product subtypes.

³ CPSC's incident search focused on fatal and near-miss strangulations suffered by young children due to window covering cords. Whenever feasible, staff selected the time frame to be 2009 through 2020. CPSC staff searched three databases for identification of window covering cord incidents: The Consumer Product Safety Risk Management System (CPSRMS), the National Electronic Injury Surveillance System (NEISS), and the Multiple Cause of Deaths data file. The first two sources are CPSC-maintained databases. The Multiple Cause of Deaths data file is available from the National Center for Health Statistics (NCHS).

1. Incident Data From CPSC Databases

Based on newspaper clippings, consumer complaints, death certificates purchased from states, medical examiners' reports, reports from hospital emergency department-treated injuries, and in-depth investigation reports, CPSC staff found a total of 194 reported fatal and near-miss strangulations on window covering cords that occurred among children 8 years old and younger from January 2009 through December 2020. These 194 incidents do not constitute a statistical sample of known probability and do not necessarily include all window covering cord-related strangulation incidents that occurred during that period. However, these 194 incidents do provide at least a minimum number for such incidents during that time frame.

Table 1a provides the breakdown of the incidents by year. Because reporting is ongoing, the number of incidents presented here may change in the future. Given that these reports are anecdotal, and reporting is incomplete, CPSC strongly discourages drawing any inferences based on the year-to-year increase or decrease shown in the reported data.

Table 1a—Reported Fatal and Near-Miss Strangulation Incidents Involving Window Covering Cords Among Children Eight Years and Younger 2009-2020
Incident year | Number of reported incidents: Total | Number of reported incidents: Fatal strangulations | Number of reported incidents: Near-miss strangulations
2009 | 48 | 14 | 34
2010 | 31 | 11 | 20
2011 | 10 | 6 | 4
2012 | 17 | 8 | 9
2013 | 9 | 2 | 7
2014 | 17 | 12 | 5
2015 | 9 | 7 | 2
2016 | 17 | 13 | 4
2017 | 9 | 5 | 4
2018 | 8 | 4 | 4
2019 * | 11 | 4 | 7
2020 * | 8 | 3 | 5
Total | 194 | 89 | 105
Source: CPSC epidemiological databases CPSRMS and NEISS.
Note: * indicates data collection is ongoing.

Table 1b expands on Table 1a to display the distribution of the annual incidents by severity of incidents and type of window coverings involved. CPSC staff identified 50 of 194 incident window coverings (26 percent) to be stock products, and 35 of the 194 (18 percent) window coverings as custom products. CPSC staff could not identify the window covering type in the remaining 109 of the 194 (56 percent) incidents.

Table 1b—Reported Fatal and Near-Miss Strangulation Incidents Involving Stock/Custom/Unknown Types of Window Covering Cords Among Children Eight Years and Younger 2009-2020
Incident year | Reported incidents by window covering type: Stock (fatal/nonfatal) | Reported incidents by window covering type: Custom (fatal/nonfatal) | Reported incidents by window covering type: Unknown (fatal/nonfatal) | Reported incidents by window covering type: All
2009 | 20 (4/16) | 7 (2/5) | 21 (8/13) | 48
2010 | 10 (3/7) | 7 (2/5) | 14 (6/8) | 31
2011 | 2 (1/1) | 4 (3/1) | 4 (2/2) | 10
2012 | 1 (1/0) | 5 (1/4) | 11 (6/5) | 17
2013 | 2 (1/1) | 3 (1/2) | 4 (0/4) | 9
2014 | 3 (2/1) | 2 (1/1) | 12 (9/3) | 17
2015 | 4 (4/0) | 1 (1/0) | 4 (2/2) | 9
2016 | 5 (3/2) | 4 (3/1) | 8 (7/1) | 17
2017 | 2 (1/1) | 1 (0/1) | 6 (4/2) | 9
2018 |  | 1 (0/1) | 7 (4/3) | 8
2019 * | 1(0/1) |  | 10 (4/6) | 11
2020 * |  |  | 8 (3/5) | 8
Total | 50 (20/30) | 35 (14/21) | 109 (55/54) | 194
Source: CPSC epidemiological databases CPSRMS and NEISS.
Note: * indicates data collection is ongoing.

Eighty-nine of the 194 incidents (46 percent) reported a fatality. Among the nonfatal incidents, 15 involved hospitalizations (8 percent). The long-term outcomes of these 15 injuries varied from a scar around the neck, to quadriplegia, to permanent brain damage. One additional child was treated and transferred to another hospital; the final outcome of this patient is unknown. In addition, 75 incidents (39 percent) involved less-severe injuries, some requiring medical treatment, but not hospitalization. In the remaining 14 incidents (7 percent), a child became entangled in a window covering cord, but was able to disentangle from the cord and escape injury. Overall, among the incidents with gender information available, 66 percent of the children were males, and 34 percent were females. One incident did not report the child's gender.

(a) Incident Breakdown—Stock and Custom Window Coverings

CPSC staff definitively identified 50 of the 194 incidents that involved stock window coverings in the period 2009 through 2020. Of the 50 incidents, 64 percent involved horizontal blinds, 28 percent involved Roman shades, 4 percent involved roller shades, and 2 percent involved roll-up shades and vertical blinds.

CPSC staff definitively identified 35 of the 194 incidents that involved custom window coverings. Of the 35 incidents, 51 percent involved horizontal blinds, 17 percent involved Roman shades, and 9 percent involved roller shades. Other shades, such as cellular and pleated shades, together accounted for 11 percent of the custom window covering incidents. Six percent of the incidents involved vertical blinds. For the remaining 6 percent of the incidents involving custom products, staff did not have sufficient information to determine the type of window covering.

For the majority of the reported incidents (109 out of 194), CPSC staff did not have enough information available to determine if the window covering was stock or custom product. Among these reported incidents, 32 percent involved horizontal blinds; 7 percent involved vertical blinds; 5 percent involved roll-up shades; roller shades and Roman shades were each involved in 4 percent of the incidents; and draperies and other shades (pleated/cellular) were each involved in 3 percent of the incidents. For a large proportion, 43 percent, CPSC staff could not determine the type of window covering based on the available data.

(b) Most Common Cord Types and Associated Hazards Resulting in Fatalities

Whether considering stock, custom, or unknown-if-stock-or-custom products, CPSC staff found that the pull/operating cord system is the single-most hazardous scenario among the reported fatal incidents. Thirty-nine of the 89 (44 percent) fatalities involved a child getting entangled in such pull cords; continuous loops were next, with 23 of the 89 (26 percent) fatalities. Inner cords ranked next, accounting for 7 of the 89 (8 percent) fatalities.

(i) Pull Cords: In 37 of the 39 known pull cord fatalities, the pull cords were components of horizontal blinds. Of these 39 deaths, 38 occurred before the effective date of the 2018 revised ANSI/WCMA standard affecting stock products. Although reporting is ongoing, so far, one fatality has been reported in 2019, but none in 2020. Among the 39 fatalities, CPSC staff identified 7 incidents involving custom products, and 12 identified as stock products; staff could not differentiate the remaining 20 incidents' window coverings vis-à-vis their stock-versus-custom status. However, staff assesses that any effects of the 2018 voluntary standard on these products are not yet reflected in the data. A closer look at pull cord-related incidents reveals several ways in which children have strangled.

• Loops created by knotted or tangled cord: CPSC staff's incident review revealed that prior to the incidents, the pull cords had been tied together, or had been coiled and tucked away (out of children's reach), but later became accessible. When pull cords were tied together, a loop was created above the knot where the cords were tied, and that is where the child later became entangled. When the cords were coiled, the cords also became tangled and created a loop, which later acted as a noose. Among all 39 pull cord-related fatal incidents, 18 out of 39 (46 percent) occurred on loops created by knotted or tangled cords.

• One or more long cords that the child wrapped around their neck: In these scenarios, the child had wrapped the long pull cord(s) around the neck multiple times. When the child fell, or tried to pull away from the window covering, the cord pulled back, causing the child to strangle or nearly strangle. Among all pull cord-related fatal incidents, this category included 11 of the 39 (28 percent) pull cord fatalities.

• Loop above a single tassel or a stop ball of the cord: Some pull cords consist of multiple cords that hang from the window covering's head rail and that are joined at a point by a plastic or wooden tassel, or by a stop ball. In such configurations, a loop exists above the tassel. In the cases reviewed, CPSC staff determined that these loops, when accessible to a child, acted as a noose where the child was caught. Four of the 39 (10 percent) pull cord-related fatal incidents involved this scenario.

• Pull cord tied to an object: CPSC staff determined that in one of the 39 (3 percent) pull cord-related fatal incidents, pull cords were tied to a cord cleat, creating a u-shape on the cords where the child strangled.

• Unknown manner: Five of the 39 (13 percent) pull cord-related fatal incidents did not report sufficient information to allow CPSC staff to determine the manner in which the child was entangled.

(ii) Continuous Loop Cords: CPSC identified continuous loop cords or beaded-chains that were not mounted with a tension device or that broke loose from a tension device at the time of the incident, to be the next major type of cord in which children become entangled. Vertical blinds and curtains/drapes are the predominant types of window covering associated with strangulations on continuous loops. Some of the incident reports mentioned the child's prior interest in wearing the beaded-chain as a necklace. Among the 89 fatalities, 23 reported this type of operating mechanism.

(iii) Inner Cords: Inner cords on horizontal blinds and/or Roman shades are the third major type of cord in which children become entangled. In these scenarios, the child pulled out the inner cord from between the slats of the horizontal blinds or from behind the Roman shades, which were in the lowered position. Subsequently, the child got caught in the loop created by the pulled-out portion of the inner cord. In some Roman shade incidents, children inserted their heads into the opening between the inner cord and the shade material. Seven of the 89 fatalities involved inner cords.

(iv) Other Cords: The lifting loop of a roll-up blind, among the less prevalent cord types, was involved in four fatalities. Children inserted their heads or arms into the lifting loop that came off the roll-up material, resulting in the strangulation incidents. Tilt cords, whichare used to swivel the slats on a horizontal blind, were involved in two additional fatal incidents.

2. Incident Data From National Estimates

(a) Estimates of Window Covering Cord-Related Strangulation Deaths Using National Center for Health Statistics Data

The National Center for Health Statistics (NCHS) compiles all death certificates filed in the United States into multiple-cause mortality data files. The mortality data files contain demographic information on the deceased, as well as codes to classify the underlying cause of death, and up to 20 contributing conditions. The NCHS compiles the data in accordance with the World Health Organization (WHO) instructions, which request member nations to classify causes of death by the current Manual of the International Statistical Classification of Diseases, Injuries, and Causes of Death. Death classifications use the tenth revision of the International Classification of Diseases (ICD), implemented in 1999. The latest year for which mortality data is available is 2019; as such, CPSC derived the strangulation fatality estimates for 2009 through 2019, which is a slightly different time frame than that used for the incident data from the CPSC databases. Based on CPSC staff's review of the death certificates maintained in the CPSRMS database, CPSC staff identified three ICD10 codes that are likely to be used for classification of strangulation fatalities:

• W75 (accidental suffocation and strangulation in bed),

• W76 (Other accidental hanging and strangulation), and

• W83 (Other specified threats to breathing).

Among these three ICD10 codes, W76 appeared to be the most commonly used code to classify strangulation deaths.

Using the ICD10 code value of W76, CPSC staff identified a total of 256 strangulation fatalities among children under age 5 in the multiple-cause mortality data from the NCHS from 2009 through 2019, which yields an annual average of 24 deaths (rounded up to the nearest integer). Two hundred and fifty-six strangulation fatalities are most likely an underestimate of all strangulation deaths, because CPSC staff did not use the other two ICD10 codes (W75 and W83) in the search of this data source. An unknown proportion of strangulation deaths are likely coded under ICD10=W75, as well as ICD10=W83. The strangulation deaths in these two codes (W75 and W83) cannot be distinguished from the non-strangulation deaths because of the unavailability of any narrative description, and thus, cannot be added to the total. Hence, staff's annual average estimate of 24 strangulation deaths is a minimum.

A CPSC report by Marcy et al.,⁴ which reviewed CPSC databases in 2002, found that 35 percent of all strangulation fatalities among children less than 5 years old were associated with window covering cords. Assuming that this 35 percent proportion applies to the entire period from 2009 through 2019, CPSC staff estimates that, on average, a minimum of 9 strangulation fatalities (35 percent of the unrounded average annual death estimate of 23.27) occur annually on window covering cords among children under 5 years of age. Again, the estimate is rounded up to an integer. We note that the age range for the strangulation fatality estimate is different from the CPSC incident data analysis. This is because the age information available from the NCHS data were in pre-set groups (e.g., 0-4 years, 5-9 years), and staff's secondary analysis results ³ focused on the 0-4 years age group. Accordingly, staff's computed estimates are also limited to ages zero to under 5. Figure 10 presents the yearly details.

⁴ N. Marcy, G. Rutherford. “Strangulations Involving Children Under 5 Years Old.” U.S. Consumer Product Safety Commission, December 2002.

(b) Estimates of Window Covering Cord-Related Strangulation Injuries Treated in Hospital Emergency Departments

Based on the emergency department-treated injury data (NEISS), the aggregated estimated injuries from 2009 through 2020, to children 8 years of age and younger, who were entangled on window covering cords, fall below the NEISS reportable threshold.⁵ The injury estimates for individual years are even smaller, which makes any trend analysis unfeasible. However, the 34 injury reports from NEISS are combined with the incident data for the analysis of anecdotal data in section I.E.1 of this preamble. CPSC set the upper limit for the age selection criterion for NEISS data at 8 years old, whenever feasible, because of multiple incident reports received by CPSC staff that involved children up to that age.

⁵ According to the NEISS publication criteria, an estimate must be 1,200 or greater, the sample size must be 20 or greater, and the coefficient of variation must be 33 percent or smaller.

F. ANSI/WCMA-2018 History and Description

CPSC staff began working with the Window Covering Manufacturers Association (WCMA) in 1995 on an American National Standards Institute (ANSI) voluntary standard to address the strangulation hazard to young children from accessible cords on window coverings. WCMA published the first version of the ANSI standard in 1996. The 1996 standard sought to prevent strangulation incidents created by looped cords by requiring either: (1) Separate operating cords, or (2) a cord-release device on multiple cords ending in one tassel. The standard also required a tension device that would hold the cord or bead loop taut, when installed according to manufacturer's instructions.

In 2001 and in 2002, CPSC staff sent letters to the WCMA asking for revisions to the 1996 standard, including the addition of inner cord stops and the elimination of free-hanging cords or bead chains longer than the neck circumference of a fifth percentile 7- to 9-month-old child. In August 2002, the published ANSI standard required inner cord stops. In 2007, the published ANSI standard required that tension devices partially limit the consumer's ability to control the blind if the tension device is not properly installed. In 2009 and 2010, WCMA published provisional voluntary standards to address hazards associated with Roman shades.

In November 2010, CPSC held a public meeting regarding window coverings, and WCMA announced that it would establish a steering committee to oversee the activities of six task groups, including one intended for operating pull cords and another for continuous loops. On December 20, 2011, WCMA balloted the proposed revisions to the voluntary standard, and on February 6, 2012, staff sent WCMA a letter providing comments on the proposed revision. In these comments, CPSC staff reiterated that the hazardous loop determination should be made for all cords and that the length of an accessible operating cord should not be longer than the neck circumference of the youngest child at risk. In addition, staff raised concerns about the inability of tension devices to eliminate effectively or reduce significantly the risk of strangulation under certain foreseeable-use conditions.

In November 2012, the WCMA announced the approval of the 2012 version of the ANSI/WCMA standard that included: (1) Requirements for durability and performance testing of the tension/hold down devices, including new requirements for anchoring; (2) specific installation instructions and warnings; (3) new requirements for products that rely on “wide lift bands” to raise and lower window coverings; (4) requirements for a warning label and pictograms on the outside of stock packaging and merchandising materials for corded products; and (5) expanded testing requirements for cord accessibility, hazardous loop testing, roll-up style shade performance, and durability testing of all safety devices. A revised ANSI/WCMA A100.1 American National Standard for Safety of Corded Window Covering Products, which included an editorial change, was approved on July 21, 2014.

On July 22, 2014, CPSC staff sent a letter to the WCMA requesting that the WCMA reopen the ANSI standard to address the hazard related to pull cords and continuous loops, which are the predominant hazard types in the incidents reported to CPSC. Staff suggested proposed language for a revision to the voluntary standard and asked that WCMA consider including the language in the standard. On August 29, 2014, WCMA responded that the association would begin the process of opening the ANSI/WCMA window covering standard. On August 2, 2016, CPSC staff hosted a WCMA technical meeting. At the meeting, WCMA committed to revising the voluntary standard to require no operating cords, short cords that cannot form a hazardous loop, or inaccessible cords, stating that there will be exceptions to these requirements. WCMA also committed to submitting a revised draft standard for ANSI to ballot by the end of 2016.

Throughout FY 2017, staff participated in WCMA steering committee meetings, and also participated in the stock/custom window covering definitions and warning labeling task groups. ANSI published a revision to the window coverings standard, ANSI/WCMA A100.1-2018, on January 8, 2018. WCMA updated the 2018 version the standard in May 2018, to include missing balloted revisions. The standard went into effect on December 15, 2018.

This NPR is based on ANSI/WCMA-2018, which segments the window covering market between “stock” and “custom” window coverings, as defined in section 3 of the standard, definitions 5.02 and 5.01. Per section 4.3.1 of the standard, stock window coverings are required to have:

(1) no operating cords (4.3.1.1),

(2) inaccessible operating cords (4.3.1.3), or

(3) short operating cords (equal to or less than 8 inches) (4.3.1.2).

As reviewed in section II of this preamble, CPSC staff advises that the requirements for operating cords on stock window coverings in ANSI/WCMA-2018 adequately address the risk of strangulation to children, by removing operating cords, ensuring that they are inaccessible to children, or by making them too short to wrap around a child's neck. However, as shown in Table 2, ANSI/WCMA-2018 does not adequately address the risk of injury associated with custom window coverings, because custom products can still be sold to consumers with hazardous operating cords.⁶

⁶ Although custom window coverings can choose to meet the operating cord requirements for stock window coverings (sections 4.3.2.1 through 4.3.2.3), consumers can still purchase custom window coverings that contain hazardous operating cords if they custom order the product (sections 4.3.2.4 through 4.3.2.7). Because the ANSI/WCMA-2018 standard does not adequately address the risk of injury from operating cords on custom products, this NPR does not include them in the scope of the rule under section 15(j) of the CPSA. The Commission proposes to address operating cords on custom window coverings in a separate rulemaking under sections 7 and 9 of the CPSA.

Section 4.5 of ANSI/WCMA addresses the strangulation risk associated with inner cords on both stock and custom window coverings. The standard requires that if inner cords are present on the product, the inner cords must be (1) inaccessible, or (2) if cords are accessible, the loop created when pulling the cord (with a maximum force of 5 pounds) cannot allow a head probe to be inserted using a 10-pound force. Section II of this preamble provides CPSC staff's analysis of the inner cord strangulation hazard on stock and custom window coverings. Staff concludes that section 4.5 of the ANSI/WCMA-2018 standard adequately addresses the risk of injury associated with inner cords on stock and custom window coverings because, similar to operating cords on stock products, inner cords must be not present, inaccessible, or, if accessible, too short to create a loop large enough for a child to insert his or her head.

Table 2 shows the operating and inner cord requirements for stock and custom window coverings in ANSI/WCMA-2018.

Table 2—ANSI/WCMA-2018 Operating and Inner Cord Requirements for Stock and Custom Window Coverings
Performance requirements | Stock products | Custom products
No operating cords OR | Required | Optional.
Short operating cord with a length equal to or less than 8 inches in any state (free or under tension) OR |  | Optional.
Inaccessible operating cords |  | Optional.
Inner cords that meet Appendix C and D | Required | Required.
Single Retractable Operating Cord Lift System | Prohibited | Allowed.
Continuous Loop Operating System | Prohibited | Allowed.
Accessible Operating Cords longer than 8 inches | Prohibited | Allowed.

G. Commission Efforts To Address Hazardous Window Covering Cords

1. Petition and Rulemaking

Since the mid-1990s, CPSC staff has been engaged with the voluntary standards body urging changes to the ANSI/WCMA standard to reduce the risk of injury associated with window covering cords. On October 8, 2014, the Commission granted a petition to initiate a rulemaking to develop a mandatory safety standard for window coverings.⁷ The petition sought to prohibit window covering cords when a feasible cordless alternative exists. When a feasible cordless alternative does not exist, the petition requested that all window covering cords be made inaccessible by using passive guarding devices. The Commission granted the petition and directed staff to prepare an ANPR to seek information and comment on regulatory options for a mandatory rule to address the risk of strangulation to young children on window covering cords.

⁷ The petition, CP 13-2, was submitted by Parents for Window Blind Safety, Consumer Federation of America, Consumers Union, Kids In Danger, Public Citizen, U.S. PIRG, Independent Safety Consulting, Safety Behavior Analysis, Inc., and Onder, Shelton, O'Leary & Peterson, LLC. Staff's October 1, 2014 Petition Briefing Package, and a copy of the petition at Tab A, is available on CPSC's website at: https://cpsc-d8-media-prod.s3.amazonaws.com/s3fs-public/pdfs/foia_PetitionRequestingMandatoryStandardforCordedWindowCoverings.pdf.

On January 9, 2015, the Commission voted to approve publication in the Federal Register of the ANPR for corded window coverings, with changes. The Commission published the ANPR for corded window covering products on January 16, 2015 (80 FR 2327). The ANPR initiated a rulemaking proceeding under the CPSA. CPSC invited comments concerning the risk of injury associated with corded window coverings, the regulatory alternatives discussed in the notice, the costs to achieve each regulatory alternative, the effect of each alternative on the safety, cost, utility, and availability of window coverings, and other possible ways to address the risk of strangulation posed to young children by window covering cords. CPSC also invited interested persons to submit an existing standard or a statement of intent to modify or develop a voluntary standard to address the risk of injury. The ANPR was based on the 2014 version of the ANSI/WCMA standard.

As described in section II.F of this preamble, the revised version of the voluntary standard, ANSI/WCMA-2018, adequately addresses the risk of injury for stock window coverings, and the risk of inner cord strangulation on custom window coverings. Accordingly, the Commission is issuing two proposed rules: (1) This NPR under section 15(j) of the CPSA, to deem as SPHs, stock window coverings that do not comply with one or more of three readily observable characteristics, and custom window coverings that do not comply with one or more of two readily observable characteristics; and (2) in a separate rulemaking under sections 7 and 9 of the CPSA, an NPR to require that custom window coverings manufactured or imported for sale in the United States not contain hazardous operating cords, by complying with the same operating cord requirements as stock products in section 4.3.1 of ANSI/WCMA-2018.

2. Window Covering Recalls

During the period January 1, 2009 through December 31, 2020, CPSC conducted 42 consumer-level recalls, including two recall reannouncements. Tab C of Staff's NPR Briefing Package provides the details of these 42 recalls, where strangulation was the primary hazard. Manufacturers recalled more than 28 million units,⁸ including: Roman shades and blinds, roll-up blinds, roller shades, cellular shades, horizontal blinds, and vertical blinds. The recalled products also included stock products, which can be purchased by consumers off-the-shelf, and custom products, which are made-to-order window coverings based on a consumer's specifications, such as material, size, and color. Recalled units did not comply with the current voluntary standard, ANSI/WCMA-2018.

⁸ This estimate does not include the recalled units of Recall No. 10-073. This was an industry-wide recall conducted by members of the Window Covering Safety Council (WCSC). The recall announcement did not provide an exact number of recalled products.

II. Preliminary Determination of a Substantial Product Hazard

Sections 4.3.1, 4.5, 5.3, 6.3, 6.7, and Appendices C and D of ANSI/WCMA-2018 set forth the performance requirements for the identified readily observable characteristics of stock and custom window coverings specified in the proposed rule. Table 3 summarizes these requirements. Additionally, Tab D of the Staff's NPR Briefing Package provides more detail on the information presented in Table 3. If finalized, the rule would deem nonconformance to one or more of the identified readily observable characteristics of stock and custom window coverings in ANSI/WCMA-2018 to be an SPH under section 15(a)(2) of the CPSA.

Table 3—Readily Observable Characteristics in ANSI/WCMA-2018 for Stock and Custom Window Coverings
| Readily observable characteristics | Criterion
Stock Window Coverings Section of the Standard
A. Operating cord
4.3.1.1 Cordless Operating System: “The product shall have no operating cords” | Presence of the operating cord | (a) Not present or
4.3.1.2 Short Static or Access Cords: “The product shall have a Short Cord” | If present, measure the length in any position of the window covering | (b) 8 inches or shorter or
4.3.1.3 Inaccessible Operating Cords: “The operating cords shall be inaccessible as determined per the test requirements in Appendix C: Test Procedure for Accessible Cords” | If present, observe whether accessible | (c) Inaccessible using cord accessibility probe.
Stock and Custom Window Coverings, Section of the Standard
B. Inner cord
4.5 Inner Cords: “All products with inner cords must meet the requirements in Appendix C and Appendix D.” Appendix C. Test Procedure for Accessible Cords | If present, determine whether accessible | (a) Inaccessible using cord accessibility probe or
Appendix D. Hazardous Loop Test Procedure | If present, determine whether a child's head can penetrate the opening | (b) Pull inner cord and measure to determine whether the opening is less than 17 inches. For 15(j) purposes, this is comparable to inserting a head probe with a force of 10 pounds.
C. Manufacturer label
5.3 Manufacturer Label: There shall be a permanent label(s) or marking on all finished window covering products | Presence of a permanent label or marking within or on the headrail or on the roller tube | Observe whether the label is present and contains the following: (a) The name, city, and state of the manufacturer/importer/fabricator (b) Month and year of manufacture (c) Designation of window covering as “Custom” or “Stock”.

A. Defined Characteristics Are Readily Observable

1. Operating Cords on Stock Window Coverings

Section 4.3.1 of ANSI/WCMA-2018 requires the operating cords of stock window coverings to be: (1) Not present (cordless) (section 4.3.1.1); (2) inaccessible (section 4.3.1.3); or (3) eight inches long or shorter in any position of the stock window covering (section 4.3.1.2). The Commission preliminarily determines that these characteristics of operating cords on stock window coverings are “readily observable” because they require visual observation and measurement to assess conformance with sections 4.3.1.1 through 4.3.1.4 of ANSI/WCMA-2018.

CPSC staff can quickly visually observe the presence or absence of an operating cord (i.e., the portion of a cord that the user interacts with during operation) on a stock window covering. Figures 11, 11a, and 12 show window coverings, two containing accessible cords on a horizontal blind (Figures 11 and 11a), and one horizontal blind without operating cords, meaning a cordless blind (Figure 12). Figure 11a demonstrates operating cords that are accessible using a cord accessibility probe, although the presence of cords is easily observable with visual confirmation and does not require a probe. For a window covering with accessible operating cords, as shown in Figures 11 and 11a, a CPSC investigator would proceed to determine whether the length of the operating cord is hazardous. A window covering without operating cords (Figure 12) is compliant with the operating cord requirement in section 4.3.1 of ANSI/WCMA-2018, because it conforms with section 4.3.1.1, and no further inspection of the operating cord is necessary.

BILLING CODE 6355-01-P

Another way a stock window covering can conform to section 4.3.1 of ANSI/WCMA is to make an operating cord inaccessible to children, pursuant to section 4.3.1.3. The CPSC investigator would attempt to touch the operating cord using the cord accessibility probe. A cord accessibility probe, shown in figure 11a, is a tool used to determine whether an operating cord, inner cord, or inner cord shroud is accessible to a child.⁹ If a cord accessibility probe cannot touch the cord, the cord is inaccessible and complies with section 4.3.1 of ANSI/WCMA. No further testing is required. For most products sold in the United States, staff can visually observe whether an operating cord is accessible without using a cord accessibility probe. Although stock window coverings that use a rigid cord shroud to encase an operating cord are sold in other countries, staff is not aware of a stock product containing a rigid cord shroud sold in the United States.¹⁰

⁹ The probe is an inexpensive measuring device designed to simulate a child's hands and fingers, by considering children's anthropometric dimensions. Tab I of Staff's NPR Briefing Package contains additional information on cord accessibility probes. Staff estimates that the cost to manufacture the probe ranges from $50, to 3D print the part from plastic, to $200, to machine the part from an aluminum rod. Manufacturers of window coverings should already have this cord accessibility probe.

¹⁰ Tab D of Staff's NPR Briefing Package shows an example of a window covering with a rigid cord shroud.

The final way to comply with the operating cord requirement for stock products is to ensure that if an operating cord is accessible, the operating cord does not have a length exceeding 8 inches in any position of the window covering, as set forth in section 4.3.1.2 of ANSI/WCMA-2018. Whether an accessible operating cord is longer than 8 inches in any position of the window covering is readily observable by taking a simple measurement with a tape measure. To observe the operating cord length, the CPSC investigator must first keep the product stationary, by having another person hold it, hanging it up on a fixed surface, or placing the window covering on the floor. The investigator can then measure the length of the operating cord with a tape measure or ruler. Figure 13 demonstrates fully lowered, mid-length, or fully raised positions of the window covering where the CPSC investigator can take a measurement. The presence of an accessible operating cord that is longer than 8 inches in any position does not conform to section 4.3.1.2, and no further inspection is necessary. The Commission proposes to deem the presence of an accessible operating cord longer than 8 inches in any position an SPH, because a child can wrap a cord or looped cord longer than 8 inches around his or her neck, and the child could strangle on the long cord.

2. Inner Cords on Stock and Custom Window Coverings

If a stock window covering conforms to the readily observable operating cord requirements in section 4.3.1 of ANSI/WCMA-2018, the CPSC investigator would then observe whether the window covering has hazardous inner cords, as set forth in section 4.5, 6.3, 6.7, and Appendices C and D, of ANSI/WCMA-2018. Investigators would also assess whether a custom window product contains a hazardous inner cord. ANSI/WCMA-18 requires that inner cords on stock and custom window coverings be: (1) Not present (cordless); (2) inaccessible; or (3) short enough not to create a loop large enough for a child to insert their head. The Commission preliminarily determines that these characteristics of inner cords on stock and custom window coverings are “readily observable” because they require visual observation and direct measurements of the product to assess conformance with sections 4.5, 6.3, 6.7, Appendix C, and Appendix D of ANSI/WCMA-2018.

The presence of an inner cord (i.e., the portion of a cord connecting head rail and bottom rail) is readily observable with a visual check. A window covering without inner cords, such as a roller shade, is compliant with the inner cord requirement in section 4.5, and no further inspection is necessary for inner cords.

If a window covering has inner cords, the CPSC investigator must determine whether a child can access the inner cord, and if so, whether the cord is hazardous because it can form a loop large enough for a child to insert their head. Accessibility to an inner cord of an open construction window covering type, such as horizontal, Roman, and pleated shades, is observable by checking whether the cord accessibility probe can touch the cords located 12 inches below the headrail before reaching a 2-inch diameter section, or by inserting a 2-inch diameter section to any opening. Figure 14 shows how staff observes whether an inner cord is accessible on a horizontal blind by touching the inner cord with the probe. Because the inner cord on this sample is accessible, the CPSC investigator would next proceed to determine whether a hazardous opening can be created by the inner cord, by pulling on the inner cord.

Figure 15 depicts a Roman shade. Although this example has no operating cords, the backside of the shade contains two inner cords that run through the rear side of the shade. In this case, the inner cords are routed through inner cord shrouds. Because the cord accessibility probe can touch the inner cords on this sample (Figure 15a), the cord is accessible under section 4.5 of ANSI/WCMA-2018. Accordingly, the CPSC investigator would proceed to the next step to determine whether the inner cord opening is hazardous.

Accessibility to an inner cord of a closed-construction window covering type, such as a cellular shade, is readily observable by checking whether the: (1) Cord accessibility probe can touch the cords located 12 inches below the head rail before reaching the 4-inch diameter section of the probe, or (2) 4-inch diameter section of the probe can be inserted into any opening.

Figure 16 demonstrates a cellular shade with no operating cord. The two inner cords are run between the two layers of the shade. The cord accessibility probe cannot be inserted through the opening and touch the cords. Because the inner cord is not accessible, the hazardous loop test cannot be performed. In this example, the cellular shade complies with both operating cord and inner cord requirements in ANSI/WCMA-2018. Accordingly, this shade is compliant with the voluntary standard and would not create an SPH related to inner-cord accessibility.

If the CPSC investigator observes that an inner cord is accessible with the cord accessibility probe, then the investigator would need to assess the size of a cord loop, created by pulling on the inner cord, to determine whether a child could put their head through the loop. Observing whether the inner cord opening is hazardous requires first fully lowering the window covering, and pulling on the inner cord with a force gauge, until the gauge reaches 5 pounds in a direction most likely to create the maximum length, or the inner cord has been pulled 25 inches, whichever comes first (see Figure 17). A force gauge is a widely available tool ¹¹ used to pull on the window covering inner cord to determine whether a hazardous loop can be created, by measuring a force intended to simulate a child pulling on the cord.

¹¹ Staff found this measuring device available at various online retailers for around $50-$100, depending on product features. Window covering manufacturers should already have this gauge.

Finally, to determine whether the loop created by the pulled inner cord is hazardous, a CPSC investigator would determine whether a child could insert his or her head into the loop, by attempting to insert a head probe. The head probe is designed to simulate the head size of a fifth percentile 7-month to 9-month-old child, as shown in Figure 20.¹² However, a tape measure can also be used to measure the perimeter of the opening, as shown in Figure 21. Manufacturers should already have the probe, or they can use a tape measure to assess an inner cord.

¹² The head probe is another inexpensive measuring device that can be made using readily available materials or 3D printed for approximately $50. Tab I of Staff's NPR Briefing Package describes the head probe in more detail.

The Commission proposes that if the head probe can be inserted into the inner cord opening or nonrigid shroud opening, the product would be deemed to have an SPH pursuant to the NPR, because the inner cord is not in conformance with sections 4.5, 6.3, 6.7, and Appendices C and D of ANSI/WCMA-2018. A nonconforming inner cord presents a strangulation hazard, because a child could insert his or her her into the inner cord opening.

Staff found that measuring the perimeter of the inner cord opening with a measuring tape provides a result equivalent to inserting a head probe with a force gauge. Figure 21 shows the perimeter openings on a horizontal blind, Roman shade inner cord, and Roman shade inner cord shroud.

BILLING CODE 6355-01-C

The Commission proposes to deem the presence of an accessible inner cord on stock and custom window coverings that creates a loop large enough for a child to insert his or her head when tested per sections 4.5, 6.3, 6.7, and Appendices C and D of ANSI/WCM-2018 to be an SPH, because a child can strangle on a noncompliant inner cord loop.

3. Manufacturer Label on Stock and Custom Window Coverings

Section 5.3 of ANSI/WCMA-2018 requires that stock and custom window coverings display a permanent label on the headrail (or roller tube) of a window covering, with the following information:

• The readily distinguishable name, city, and state of the manufacturer/importer/fabricator;

• the month and year of manufacture;

• the designation of the window covering as “Custom” or “Stock.”

A CPSC investigator can perform a visual observation of the label and its contents quickly, in less than a minute.

The Commission preliminarily determines that the absence of a manufacturer label is readily observable with a visual observation of the window covering. The Commission proposes that the absence of a manufacturer label on a window covering is an SPH, because the window covering would not be in compliance with section 5.3 of ANSI/WCMA-2018. Additionally, the absence of this manufacturer label would make it difficult for staff, manufacturers, and consumers to identify the product and class of products subject to a recall, and to distinguish stock from custom window coverings. Differentiating stock from custom products is important as long as the operating cord requirements for stock and custom products are not identical. For example, the Commission anticipates that a final rule under section 15(j) of the CPSA can issue before a rule under sections 7 and 9 of the CPSA. Once a rule for operating cords on custom products is complete, substantive cord requirements for all window coverings will be the same. Before that time, only inner cords on custom products will be subject to a rule. Therefore, CPSC, manufacturers, and consumers must be able to differentiate stock products from custom products until the operating cord requirements are the same; and product information that aids a recall will always be necessary to effect and expedite a recall.

B. Window Coverings That Conform to ANSI/WCMA-2018 Are Effective at Reducing the Risk of Injury Associated With the Identified Readily Observable Characteristics

Based on CPSC staff's analysis, the Commission preliminarily determines that stock window coverings that comply with section 4.3.1 of the revised 2018 version of the ANSI/WCMA standard effectively eliminate or significantly reduce the risk of strangulation from operating cords, by removing operating cords, making operating cords inaccessible to children, or by ensuring that operating cords are not long enough for a child to wrap around his or her neck. See Tabs G and I of Staff's NPR Briefing Package. Staff's review of the incident data found that if stock window coverings had complied with the requirements in sections 4.3.1 of ANSI/WCMA-2018 at the time of the incident, all operating cord incidents would have been prevented. Id. Even though the requirements in the 2018 standard, when followed, should lead to safe stock window coverings, the Commission acknowledges that it will take a long time, approximately 2 decades, for existing window coverings in consumers' homes to be replaced.¹³

¹³ For window coverings manufacturered before the effective date of the voluntary standard, the Window Covering Safety Council (WCSC) distributes safety devices through its website, and during October safety month, CPSC and WCSC promote safe window coverings, and offer guidance on what to do to reduce the strangulation hazard.

Based on staff's assessment, the Commission also preliminarily determines that stock and custom window coverings that comply with the inner cord requirements in sections 4.5, 6.3, 6.7, and Appendices C and D of ANSI/WCMA-2018 effectively eliminate or reduce the strangulation risk to children from hazardous inner cords. Id. Like the operating cord requirements for stock window coverings, the inner cord requirements eliminate hazardous cords, by removing them from the product, shrouding inner cords to make them inaccessible to children, or ensuring that if a child pulls on an inner cord, the loop created is not large enough for a child to insert his or her head. Staff's review of the incident data found that if stock and custom window coverings had been in compliance with section 4.5 of ANSI/WCMA-2018, all inner cord incidents would have been prevented. Id.

Finally, the Commission preliminarily determines that stock and custom window coverings that comply with section 5.3 of ANSI/WCMA-2018, by displaying the required manufacturer label, are effective at reducing the risk of injury, by identifying whether a product is stock or custom, and by identifying the manufacturer and the manufacture date of the products. This information allows CPSC, manufacturers, and consumers to differentiate stock products from custom products, and it also aids in expediting timely and effective recalls. See Tab D of Staff's NPR Briefing Package.

C. Window Coverings Substantially Comply With the Identified Readily Observable Characteristics of Window Coverings

The Commission has several bases to determine preliminarily that window coverings substantially comply with the requirements for operating cords in ANSI/WCMA-2018.¹⁴ First, WCMA, the trade association for window coverings and the body that created the voluntary standard, stated in a comment on the ANPR (comment ID: CPSC_2013-0028-1555) that there has been substantial compliance with the voluntary standard since its first publication. WCMA also stated that the association's message to all manufacturers is that, to sell window coverings in the United States, compliance with the standard is mandatory.

¹⁴ CPSC staff observes some decline in pediatric incident data that suggests compliance with the voluntary standard is effective at reducing the number of incidents (see Tab A of Staff's NPR Briefing Package for CPSRMS and NCHS data). We expect a similar trend to continue for stock products given the substantial improvements made to the standard in 2018. However, because window coverings are used for many years, and will be replaced over time with safer products that conform to the voluntary standard, several more years of incident data are required to more definitively demonstrate a reduction in incidents.

Additionally, the Commission instructed the staff to investigate the level of compliance of window coverings with the voluntary standard. CPSC contracted with D+R International, which interviewed window covering manufacturers and component manufacturers to collect anecdotal information on the distribution of stock and custom product sales and the impact of compliance with the voluntary standard (D+R International, 2021). Various manufacturers indicated retail customers would not stock noncompliant products. Manufacturers are also aware of their customers' procedures, and they would not ship to them, if there were concerns about the assembly and installation process. The D+R report indicates that the voluntary standard has caused U.S. window covering manufacturers to design and offer cordless lift operations for most stock window covering categories. All manufacturers interviewed were aware of the standard and had implemented compliance in all stages of their development process, from product design to fabrication.

CPSC field staff also confirmed compliance of the categorization for “stock” and “custom” window coverings, as defined in the ANSI/WCMA standard. CPSC field staff conducted unannounced in-store visits to 18 firms, comprising wholesalers, manufacturers, and retailers. Window coverings in 13 locations demonstrated compliance with the voluntary standard for operating cords for stock and custom products. However, in four locations, staff observed noncompliance of custom window coverings with the ANSI/WCMA standard, primarily for characteristics that are not subject to this rule, including: Length of operating cords 40 percent longer than the window covering length, with no accompanying specific customer request; lack of warning label; lack of manufacturer label; lack of hang tag; and use of a cord tilt, instead of wand tilt, without an accompanying specific customer request. Staff found one location with a noncomplying stock window covering. This stock window covering was being sold with long beaded-cord loops in various sizes. Tab E of Staff's NPR Briefing Package contains a more detailed description of staff's assessment of substantial compliance with the voluntary standard.

Finally, CPSC technical staff tested custom product samples, using test parameters defined in ANSI/WCMA-2018, with a cord accessibility probe and force gauge. The samples tested by staff also indicated a high level of conformance in custom products regarding inner cord accessibility.

Based on incident data, WCMA's statements, contractor report findings, and staff's examination and testing of window covering products, the Commission preliminarily determines that a substantial majority of window coverings sold in the United States comply with the readily observable safety characteristics identified in ANSI/WCMA-2018.

III. Description of the Proposed Rule

The proposed rule would add several new paragraphs in part 1120. The proposed rule includes two new definitions in sections 1120.2(f) and (g), which would define “stock window covering” and “custom window covering” consistent with the definitions in section 3 of ANSI/WCMA-2018, definitions 5.02 and 5.01, respectively. The proposed rule defines a “stock window covering” as a product that is “completely or substantially fabricated” prior to being distributed in commerce and is a stock-keeping unit (SKU). The definition further explains that even when a seller, manufacturer, or distributor modifies a pre-assembled product by, for example, adjusting the size, attaching a top rail or bottom rail, or tying cords to secure the bottom rail, the product is still considered “stock.” Additionally, the definition clarifies that online sales of the product, or the quantity of an order, such as a large quantity for a multifamily housing unit, do not make the product a non-stock product. The proposed rule defines a “custom window covering” as any window covering that is not classified as a stock window covering.

Proposed section 1120.3 lists substantial product hazards by product, identifying the readily observable characteristics of each product, and the sections of the voluntary standards that address each hazard. The proposed rule would modify § 1120.3 by adding “stock window coverings” and “custom window coverings” as § 1120.3(e) and (f), respectively. Proposed § 1120.3(e) would deem stock window coverings that fail to comply with one or more of three readily observable characteristics in ANSI/WCMA-2018 an SPH:

(1) Operating cord requirements in sections 4.3.1.1 (cordless operating system), 4.3.1.2 (short static or access cord), or 4.3.1.3 (inaccessible operating cord);

(2) Inner cord requirements in sections 4.5, 6.3, 6.7, Appendix C, and Appendix D; and

(3) On-product manufacturer label in section 5.3.

Additionally, proposed § 1120.3(f) would deem custom window coverings that fail to comply with one or more of two readily observable characteristics in ANSI/WCMA-2018 an SPH:

(1) Inner cord requirements in section 4.5, 6.3, 6.7, Appendix C, and Appendix D; and

(2) On-product manufacturer label in section 5.3.

These characteristics and the ANSI/WCMA-2018 requirements are explained in more detail in section II, and Tables 2 and 3, of this preamble.

Finally, the proposed rule would add § 1120.4(d), which provides the incorporation by reference details for the ANSI/WCMA standard.

IV. Effect of the Proposed 15(j) Rule

Section 15(j) of the CPSA allows the Commission to issue a rule specifying that a consumer product or class of consumer products has characteristics whose presence or absence creates a substantial product hazard. Such a rule would not be a consumer product safety rule, and thus, would not trigger the statutory requirements of a consumer product safety rule. For example, a rule under section 15(j) of the CPSA does not trigger the testing or certification requirements under section 14(a) of the CPSA.

Although a rule issued under section 15(j) of the CPSA is not a consumer product safety rule, placing a consumer product on the SPH list in 16 CFR part 1120 would have certain ramifications. A product that is or has an SPH is subject to the reporting requirements of section 15(b) of the CPSA, 15 U.S.C. 2064(b). A manufacturer, importer, distributor, or retailer that fails to report an SPH to the Commission is subject to civil penalties under section 20 of the CPSA, 15 U.S.C. 2069, and is possibly subject to criminal penalties under section 21 of the CPSA, 15 U.S.C. 2070.

A product that is or contains an SPH also is subject to corrective action under sections 15(c) and (d) of the CPSA, 15 U.S.C. 2064(c) and (d). Thus, if the Commission issues a final rule under section 15(j) for stock and custom window coverings, the Commission could order the manufacturer, importer, distributor, or retailer of window coverings that do not conform to one or more of the identified readily observable characteristics to offer to repair or replace the product or to refund the purchase price to the consumer.

A product that is offered for import into the United States and is or contains an SPH shall be refused admission into the United States under section 17(a) of the CPSA, 15 U.S.C. 2066(a). Additionally, Customs and Border Protection (CBP) has the authority to seize certain products offered for import under the Tariff Act of 1930 (19 U.S.C. 1595a) (Tariff Act), and to assess civil penalties that CBP, by law, is authorized to impose. Section 1595a(c)(2)(A) of the Tariff Act states that CBP may seize merchandise, and such merchandise may be forfeited if: “its importation or entry is subject to any restriction or prohibition which is imposed by law relating to health, safety, or conservation and the merchandise is not in compliance with the applicable rule, regulation, or statute.” Thus, if the proposed rule is finalized, stock and custom window coverings that violate the rule are subject to CBP seizure and forfeiture.

V. Regulatory Flexibility Act Analysis ¹⁵

¹⁵ The RFA analysis is based on Tab F of Staff's NPR Briefing Package.

The Regulatory Flexibility Act (RFA) requires that proposed rules be reviewed for the potential economic impact on small entities, including small businesses. 5 U.S.C. 601-612. Section 603 of the RFA requires agencies to prepare and make available for public comment an Initial Regulatory Flexibility Analysis (IRFA), describing the impact of the proposed rule on small entities and identifying impact-reducing alternatives. The requirement to prepare an IRFA does not apply if the agency certifies that the rulemaking will not have a significant economic impact on a substantial number of small entities. Id. 605. Because the Commission expects that the economic effect on all entities will be minimal, absent public comment with relevant information and evidence to the contrary, the Commission intends to certify at the final rule stage that the rule will not have a significant economic impact on a substantial number of small entities.

A. Small Entities to Which the Proposed Rule Would Apply

The proposed rule would apply to all “window coverings,” as defined in the draft proposed rule, consistent with the definition in ANSI/WCMA A100.1-2018. Window coverings include the following product categories: Blinds, shades, and curtains and draperies. The shades category includes: cellular shades, pleated shades, roller shades, and Roman shades. The blinds category includes horizontal blinds and vertical blinds of varying material types. The total window covering market size in 2020 was approximately $6.6 billion.¹⁶ (Euromonitor 2021a). CPSC staff estimates that firms classified as small by U.S. Small Business Administration (SBA) guidelines account for $4.08 billion annually, and none of these firms accounts for more than 3 percent of total market share by revenue. (Euromonitor 2021b).

¹⁶ Stock window coverings most likely account for a minority of the total market size in terms of revenue due to significant average price differences between stock and custom products. (D+R International 2021).

The North American Industry Classification System (NAICS) defines product codes for U.S. firms. Firms that manufacture window coverings may list their business under the NAICS product code for blinds and shades manufacturers (337920 Blind and Shade Manufacturing) or retailers (442291 Window Treatment Stores).¹⁷ Importers of window coverings are generally listed in Home Furnishing Merchant Wholesalers (423220), which includes other home furnishing items and is nonspecific to window coverings.

¹⁷ The two product codes 337920 and 442291 encompass most products in the window coverings market. However, some drapery and curtain manufacturers may be listed under 322230, stationary product manufacturing.

Under SBA guidelines, a manufacturer of window coverings is categorized as small if the firm has fewer than 1,000 employees; retailers are considered small if they have sales revenue less than $8.0 million, and importers if the firm has fewer than 100 employees. Based on 2017 data, 1,898 firms were categorized as blinds and shades manufacturers and retailers (Census Bureau, 2020). Of these, about 1,840 firms (302 manufacturers and 1,538 retailers) are small. As the NAICS code for importers is nonspecific to window coverings, CPSC staff reviewed CBP data, firm financial reports, and Dun & Bradstreet reports to obtain an estimate. CPSC staff estimates that there are approximately 83 importers that meet the SBA guidelines for a small business (Laciak 2020). Nearly all of the 302 small manufacturers identified are far below the 1,000 employee SBA threshold, as a majority are firms with under five employees. CPSC staff believes that the window coverings produced by these firms would meet the voluntary standard definition of a “custom” window covering, because many are hand crafters, and they produce products to a specific customer order.

B. Potential Impact of the Proposed Rule

A proposed rule designating stock and custom window covering products that do not conform to the specified readily observable characteristics of ANSI/WCMA A100.1-2018 as an SPH will not likely have a significant impact on a substantial number of small businesses or other small entities. Data collected in person at manufacturers, retailers, and importers by CPSC staff indicate that the level of conformance with the sections of the WCMA standard concerning stock products is high and most likely greater than 90 percent (Tab E).¹⁸ Samples tested by CPSC staff also indicate a high level of conformance of custom products related to inner cord accessibility.¹⁹

¹⁸ CPSC staff conducted in person unannounced visits to window covering retailers, manufacturers, and importers in major metropolitan areas and found only one violation in which a stock product was available with accessible cords. Four violations were found concerning warning/manufacturer labels not related to inner cords on custom products.

¹⁹ Staff tested custom product samples using test parameters defined in ANSI/WCMA A100.1-2018, which involved the use of a cord accessibility probe and force gauge.

Firms already conforming to the standard would experience no impact by the proposed rule. However, CPSC staff notes that at least one small manufacturer that does not currently conform to the accessible cord provision will experience a significant cost impact by the rule.²⁰ Staff does not believe that a substantial number of small manufacturers will experience this cost impact. Retailers and importers are not expected to be impacted significantly by the rule, because potential costs to conform will be borne by manufacturers. Should a window covering retailer and/or importer bear a cost related to conformance, staff expects the cost to account only for a small portion of total revenues, because these firms typically sell/import other home furnishing products in addition to window coverings.

²⁰ See Tab K of Staff's NPR Briefing Package.

Based on the available information, the Commission could certify that a rule to deem nonconforming operating cords and inner cords on stock window coverings, and nonconforming inner cords on custom products, to be SPHs, because such a rule would likely not have a significant impact on a substantial number of small businesses or other small entities. Absent additional information identified through notice and comment, in the final rule, the Commission will certify that the rule will not have a significant impact on a substantial number of small businesses.

VI. Environmental Considerations

Generally, the Commission's regulations are considered to have little or no potential for affecting the human environment, and environmental assessments and impact statements are not usually required. See 16 CFR 1021.5(a). The proposed rule to deem stock and custom window covering cords that do not comply with the identified readily observable characteristics to be an SPH is not expected to have an adverse impact on the environment, and it is considered to fall within the “categorical exclusion” for the purposes of the National Environmental Policy Act. 16 CFR 1021.5(c).

VII. Paperwork Reduction Act

This proposed rule to amend the substantial product hazard list in 16 CFR part 1120 to include hazardous window covering cords contains information collection requirements that are subject to public comment and review by the Office of Management and Budget (“OMB”) under the Paperwork Reduction Act of 1995 (44 U.S.C. 3501-3521). In this document, pursuant to 44 U.S.C. 3507(a)(1)(D), we set forth:

A title for the collection of information;

a summary of the collection of information;

a brief description of the need for the information and the proposed use of the information;

a description of the likely respondents and proposed frequency of response to the collection of information;

an estimate of the burden that shall result from the collection of information; and

notice that comments may be submitted to the OMB.

Title: Substantial Product Hazard List: Manufacturer Label on Window Coverings.

Description: To address the risk of strangulation to children 8 years old and younger from hazardous cords on window coverings, the Consumer Product Safety Commission (CPSC) is proposing a rule to deem that one or more of the following readily observable characteristics of window coverings present a substantial product hazard under the Consumer Product Safety Act (CPSA): The presence of hazardous operating cords on stock window coverings, the presence of hazardous inner cords on stock and custom window coverings, and the absence of a manufacturer label on stock and custom window coverings. All three of these product characteristics are addressed in the voluntary standard for window coverings, ANSI/WCMA-2018. The requirement to place a manufacturer label on the product is set forth in section 5.3 of ANSI/WCMA-2018. The requirement for an on-product label falls within the definition of “collection of information,” as defined in 44 U.S.C. 3502(3).

Description of Respondents: Persons who manufacture or import stock or custom window coverings.

Estimated Burden: We estimate the burden of this collection of information as follows:

Table 8—Estimated Annual Reporting Burden
16 CFR section | Number of respondents | Frequency of responses | Total annual responses | Hours per response | Total burden hours
1120.3(e)(3) & 1120.3(f)(2) | 391 | 11 | 4,301 | 1 | 4,301

Our estimate is based on the following:

The Commission proposes in the NPR to deem the absence of a manufacturer label, required on both stock and custom window coverings, as set forth in section 5.3 of ANSI/WCMA-2018, an SPH. Section 5.3 of the voluntary standard requires: “There shall be a permanent label(s) or marking on all finished window covering products.” The required label must be on the headrail or on the roller tube of every window covering. The label must contain: The name, city, and state of the manufacturer, importer, or fabricator; the month and year of manufacture; and the designation of the window covering as either “Stock” or “Custom.”

Three hundred ninety-one (391) known entities supply window coverings to the U.S. market. If modifications to existing product labels are required, we estimate that the time required to make these modifications is about 1 hour per model. Based on an evaluation of supplier product lines, each of the 391 entities supplies an average of 11 models of window coverings; ²¹ therefore, the estimated burden associated with labels is 1 hour per model × 391 entities × 11 models per entity = 4,301 hours. We estimate the hourly compensation for the time required to create and update labels is $33.78 (U.S. Bureau of Labor Statistics, “Employer Costs for Employee Compensation,” March 2021, total compensation for all sales and office workers in goods-producing private industries: http://www.bls.gov/ncs/). Therefore, the estimated annual cost to industry associated with the labeling requirements is $145,288 ($33.78 per hour × 4301 hours = $145,288). No operating, maintenance, or capital costs are associated with the collection.

²¹ This number was derived from a review of manufacturers product offerings listed on the firms/associated retailer websites and market research conducted in support of the preliminary regulatory analysis.

This burden estimate is the largest possible, assuming that every manufacturer had to modify the on-product label. However, based on staff's review of stock and custom window products, window coverings already substantially comply with the on-product manufacturer label requirement in section 5.3 of ANSI/WCMA-2018. Accordingly, product modification and any associated burden is unlikely. Under the OMB's regulations (5 CFR 1320.3(b)(2)), the time, effort, and financial resources necessary to comply with a collection of information that would be incurred by persons in the “normal course of their activities” are excluded from a burden estimate, where an agency demonstrates that the disclosure activities required to comply are “usual and customary.” Staff estimates a high degree of compliance with the voluntary standard, more than 90 percent of stock products and a substantial number of the custom products, such that window coverings already comply with the on-product manufacturer label requirement in the voluntary standard. Therefore, CPSC could estimate that no burden hours are associated with the proposed rule, because any burden associated with the on-product manufacturer label would be “usual and customary” and not within the definition of “burden” under the OMB's regulations.

We request comments on this potential estimate of no burden. We also request comment on the analysis demonstrating that the largest possible burden estimate for the proposed standard to require the manufacturer label in section 5.3 of ANSI/WCMA-2018 on stock and custom window coverings to be 4,301 hours at a cost of $145,288 annually.

In compliance with the Paperwork Reduction Act of 1995 (44 U.S.C. 3507(d)), we have submitted the information collection requirements of this rule to the OMB for review. Interested persons are requested to submit comments regarding information collection by February 7, 2022, to the Office of Information and Regulatory Affairs, OMB (see the ADDRESSES section at the beginning of this notice).

Pursuant to 44 U.S.C. 3506(c)(2)(A), we invite comments on:

Whether the collection of information is necessary for the proper performance of the CPSC's functions, including whether the information will have practical utility;

the accuracy of the CPSC's estimate of the burden of the proposed collection of information, including the validity of the methodology and assumptions used;

ways to enhance the quality, utility, and clarity of the information to be collected;

ways to reduce the burden of the collection of information on respondents, including the use of automated collection techniques, when appropriate, and other forms of information technology; and

the estimated burden hours associated with label modification, including any alternative estimates.

VIII. Preemption

The proposed rule under section 15(j) of the CPSA would not establish a consumer product safety rule. Accordingly, the preemption provisions in section 26(a) of the CPSA, 15 U.S.C. 2075(a), would not apply to this rule.

IX. Effective Date

The Administrative Procedure Act (APA) generally requires that the effective date of a rule be at least 30 days after publication of a final rule. 5 U.S.C. 553(d). The Commission proposes that any stock or custom window coverings that do not conform to the specified sections of ANSI/WCMA A100.1-2018, be deemed an SPH effective 30 days after publication of a final rule in the Federal Register. After that date, all stock and custom window coverings that are subject to, but do not comply with, ANSI/WCMA A100.1-2018 regarding the identified readily observable characteristics, will be deemed to be an SPH.

The Commission believes that a 30-day effective date is appropriate because stock and custom window coverings substantially comply with the identified readily observable safety characteristics in ANSI/WCMA A100.1-2018, and because there is widespread knowledge of these requirements among importers and manufacturers. Accordingly, relevant stakeholders are on notice of the requirements in ANSI/WCMA A100.1-2018. Moreover, importers likely will have ample time and opportunity to acquire conforming products, if necessary, from suppliers within normal business cycles before a final rule is promulgated. Based on the available information, the Commission concludes that a 30-day effective date would not likely result in significant impacts on industry, nor disrupt the supply of conforming products.

X. Incorporation by Reference

The Commission proposes to incorporate by reference certain provisions of ANSI/WCMA A100.1-2018, American National Standard for Safety of Corded Window Covering Products. The Office of the Federal Register (OFR) has regulations concerning incorporation by reference. 1 CFR part 51. The OFR revised these regulations to require that, for a proposed rule, agencies must discuss in the preamble of the NPR ways that the materials the agency proposes to incorporate by reference are reasonably available to interested persons or how the agency worked to make the materials reasonably available. In addition, the preamble of the proposed rule must summarize the material. 1 CFR 51.5(a).

In accordance with the OFR's requirements, sections I.B.2.(d), II.A, and Table 3 of this preamble summarize the provisions of ANSI/WCMA A100.1-2018 that the Commission proposes to incorporate by reference. ANSI/WCMA A100.1-2018 is copyrighted. You can view a read-only copy of ANSI/WCMA A100.1-2018 at: https://wcmanet.com/wp-content/uploads/2021/07/WCMA-A100-2018_v2_websitePDF.pdf. To download or print the standard, interested persons can purchase a copy of ANSI/WCMA A100.1-2018 from WCMA, through its website (http://wcmanet.com), or by mail from the Window Covering Manufacturers Association, Inc. 355 Lexington Avenue, New York, NY 10017; telephone: 212.297.2122. Alternatively, interested parties may inspect a copy of the standard free of charge by contacting Alberta E. Mills, Division of the Secretariat, U.S. Consumer Product Safety Commission, 4330 East West Highway, Bethesda, MD 20814; telephone: 301-504-7479; email: cpsc-os@cpsc.gov.

XI. Request for Comments

The Commission invites interested persons to submit their comments to the Commission on any aspect of the proposed rule. Comments should be submitted as provided in the instructions in the ADDRESSES section at the beginning of this notice.

List of Subjects in 16 CFR Part 1120

Administrative practice and procedure, Clothing, Consumer protection, Cord sets, Extension cords, Household appliances, Lighting, Window coverings, Cords, Infants and children, Imports, Incorporation by reference.

For the reasons stated above, and under the authority of 15 U.S.C. 2064(j), 5 U.S.C. 553, and section 3 of Public Law 110-314, 122 Stat. 3016 (August 14, 2008), the Consumer Product Safety Commission proposes to amend 16 CFR part 1120 as follows:

PART 1120—SUBSTANTIAL PRODUCT HAZARD LIST

1. The authority citation for part 1120 continues to read as follows:

Authority: 15 U.S.C. 2064(j).

2. Amend § 1120.2 by adding paragraphs (f) and (g) to read as follows:

§ 1120.2 Definitions.

* * * * *

(f) Stock window covering (also known as a stock blind, shade, or shading) defined in section 3, definition 5.02, of ANSI/WCMA A100.1-2018, is a window covering that is completely or substantially fabricated prior to being distributed in commerce and is a specific stock-keeping unit (SKU). Even when the seller, manufacturer, or distributor modifies a pre-assembled product by adjusting to size, attaching the top rail or bottom rail, or tying cords to secure the bottom rail, the product is still considered stock. Online sales of the product or the size of the order such as multi-family housing do not make the product a non-stock product. These examples are provided in ANSI/WCMA A100.1-2018 to clarify that as long as the product is “substantially fabricated,” subsequent changes to the product do not change its categorization.

(g) Custom window covering (also known as a custom blind, shade, or shading) defined in section 3, definition 5.01, of ANSI/WCMA A100.1-2018, is a window covering that does not meet the definition of a stock window covering.

3. Amend § 1120.3 by adding paragraphs (e) and (f) to read as follows:

§ 1120.3 Products deemed to be substantial product hazards.

* * * * *

(e) Stock window coverings that fail to comply with one or more of the following requirements of ANSI/WCMA A100.1-2018:

(1) Operating cord requirements in section 4.3.1: section 4.3.1.1 (cordless operating system), 4.3.1.2 (short static or access cord), or 4.3.1.3 (inaccessible operating cord);

(2) Inner cord requirements in sections 4.5, 6.3, 6.7, and Appendices C and D; and

(3) On-product manufacturer label requirement in section 5.3.

(f) Custom window coverings that fail to comply with one or more of the following requirements of ANSI/WCMA A100.1-2018:

(1) Inner cord requirements in sections 4.5, 6.3, 6.7, and Appendices C and D; and

(2) On-product manufacturer label in section 5.3.

4. Amend § 1120.4 by adding paragraph (d) to read as follows:

§ 1120.4 Standards incorporated by reference.

* * * * *

(d) Window Covering Manufacturers Association, Inc. 355 Lexington Avenue, New York, New York 10017. telephone: 212.297.2122. http://wcmanet.com.

(1) ANSI/WCMA A100.1-2018. American National Standard For Safety Of Corded Window Covering Products, IBR approved for §§ 1102.2(f) and (g), and §§ 1120.3 (e) and (f).

(2) [Reserved]

Alberta E. Mills,
Secretary, Consumer Product Safety Commission.

[FR Doc. 2021-27897 Filed 1-6-22; 8:45 am]

BILLING CODE 6355-01-P